DEPARTMENT OF THE INTERIOR

Fish and Wildlife Service

[FWS-R3-ES-2014-N033]; [FXES11130300000F3-145-FF03E00000]

Endangered and Threatened Wildlife and Plants; Permit Applications

AGENCY: Fish and Wildlife Service, Interior.

ACTION: Notice of availability of permit applications; request for comments.

SUMMARY: We, the U.S. Fish and Wildlife Service (USFWS), invite the public to comment on the following applications to conduct certain activities with endangered species. With some exceptions, the Endangered Species Act (Act) prohibits activities with endangered and threatened species unless a Federal permit allows such activity. The Act requires that we invite public comment before issuing these permits.

DATES: We must receive any written comments on or before April 18, 2014.

ADDRESSES: Send written comments by U.S. mail to the Regional Director, Attn: Karl Tinsley, U.S. Fish and Wildlife Service, Ecological Services, 5600 American Blvd. West, Suite 990, Bloomington, MN 55437-1458; or by electronic mail to permitsR3ES@fws.gov.

FOR FURTHER INFORMATION CONTACT: Karl Tinsley, (612) 713-5330.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR part 17. Submit your written data, comments, or request for a copy of the complete application to the address shown in ADDRESSES.

Permit Applications

Permit Application Number: TE71718A

Applicant: Steffen J. Bradley, Cincinnati, OH.

The applicant requests a permit renewal to take (capture and release) Indiana bats (Myotis sodalis) and gray bats (Myotis grisescens) within the States of Illinois, Indiana, Iowa, Michigan, Missouri, Ohio, and Wisconsin. Proposed activities are for the recovery of the species and enhancement of survival of the species in the wild.

Permit Application Number: TE71827A

Applicant: Benjamin T. Hale, Bloomington, IN.

The applicant requests a permit renewal to take (capture and release) Indiana bats, gray bats, Ozark big-eared bats (Corynorhinus townsendii ingens), and Virginia big-eared bats (Corynorhinus townsendii virginianus) within the States of Alabama, Arkansas, Connecticut, Delaware, Florida, Georgia, Illinois, Indiana, Iowa, Kansas, Kentucky, Louisiana, Maine, Maryland, Massachusetts, Michigan, Mississippi, Missouri, Nebraska, New Hampshire, New Jersey, New York, North Carolina, Ohio, Oklahoma, Pennsylvania, Rhode Island, South Carolina, Tennessee, Texas, Vermont, Virginia, West Virginia, and Wisconsin. Proposed activities are for the enhancement of survival of the species in the wild.

Permit Application Number: TE71680A

Applicant: Megan Caylor, Indianapolis, IN.

The applicant requests a permit renewal to take (capture and release) Indiana bats and gray bats within the States of Alabama, Arkansas, Connecticut, Delaware, Florida, Georgia, Illinois, Indiana, Iowa, Kentucky, Maryland, Massachusetts, Michigan, Minnesota, Missouri, Mississippi, New Hampshire, New Jersey, New York, North Carolina, Ohio, Oklahoma, Pennsylvania, Rhode Island, South Carolina, Tennessee, Vermont, Virginia, Washington, DC, West Virginia, and Wisconsin. Proposed activities are for the recovery and enhancement of survival of the species in the wild.

Permit Application Number: TE07358A

Applicant: Civil & Environmental Consultants, Inc., Indianapolis, IN.

The applicant requests a permit renewal to take (capture and release) Indiana bats and gray bats within the States of Alabama, Arkansas, Georgia, Illinois, Indiana, Iowa, Kansas, Kentucky, Maryland, Massachusetts, Michigan, Mississippi, Missouri, New Jersey, New York, North Carolina, Ohio, Oklahoma, Pennsylvania, South Carolina, Tennessee, Vermont, Virginia, and West Virginia. Proposed activities are for the recovery and enhancement of survival of the species in the wild.

Permit Application Number: TE130900

Applicant: EnviroScience, Inc., Stow, OH.

The applicant requests a permit renewal to take (capture and release) the following listed fish and mussel species throughout their range, within the States of Arkansas, Florida, Georgia, Illinois, Indiana, Iowa, Kentucky, Michigan, Minnesota, Missouri, Ohio, Tennessee, and Wisconsin:

Mussel Species
Alabama lampmussel | Lampsilis virescens.
Alabama moccasinshell | Medionidus acutissimus.
Appalachian elktoe | Alasmidonta raveneliana.
Appalachian monkeyface | Quadrula sparsa.
Arkansas fatmucket | Lampsilis powelli.
Birdwing pearlymussel | Lemiox rimosus.
Chipola slabshell | Elliptio chipolaensis.
Clubshell | Pleurobema clava.
Coosa moccasinshell | Medionidus parvulus.
Cracking pearlymussel | Hemistena lata.
Cumberland bean | Vilosa trabalis.
Cumberland elktoe | Alasmidonta atropupurea.
Cumberland monkeyface | Quadrula intermedia.
Cumberland pigtoe | Pleurobema gibberum.
Cumberland combshell | Epioblasma brevidens.
Curtis pearlymussel | Epioblasma florentina curtisii,
Dromedary pearlymussel | Dromus dromas.
Fanshell | Cyprogenia stegaria.
Fat pocketbook | Potamilus capax.
Fat three-ridge | Amblema neislerii.
Fine-lined pocketbook | Hamiota altilis.
Finerayed pigtoe | Fusconaia cuneolus.
Fluted kidneyshell | Ptychobrachus subtentum.
Georgia pigtoe | Pleurobema hanleyianum.
Gulf moccasinshell | Medionidus penicillatus.
Higgins' eye pearlymussel | Lampsilis higginsii.
Littlewing pearlymussel | Pegias fabula.
Northern riffleshell | Epioblasma torulosa rangiana.
Ochlockonee moccasinshell | Medionidus simpsonianus.
Orange-footed pimpleback | Plethobasus cooperianus.
Ouachita Rock pocketbook | Arkansia wheeleri.
Oval pigtoe | Pleurobema pyriforme.
Ovate clubshell | Pleurobema perovatum.
Oyster musselshell | Epioblasma capsaeformis.
Pale lillput | Toxolasma cylindrellus.
Pink mucket pearlymussel | Lampsilis abrupta.
Purple bankclimber | Elliptoideus sloatianus.
Purple bean | Vilosa purpurea.
Purple cat's paw pearlymussel | Epioblasma obliquata obliquata.
Rayed bean | Villosa fabalis.
Rink pink | Obovaria retusa.
Rough pigtoe | Pleurobema plenum.
Rough rabbitsfoot | Quadrula cylindrical strigillata.
Shiny pigtoe | Fusconaia cor.
Shiny-rayed pocketbook | Lampsilis subangulata.
Slabside pearlymussel | Lexingtonia dolabelloides.
Snuffbox | Epioblasma triquetra.
Southern acornshell | Epioblasma othcaloogensis.
Southern clubshell | Pleurobema decisum.
Southern pigtoe | Pleurobema georgianum.
Tan riffleshell | Epioblasma florentina walkeri.
Triangular kidneyshell | Ptychobrachus greeni.
Upland combshell | Epioblasma metrastriata.
White cat's paw pearlymussel | Epioblasma obliquata perobliqua.
White wartyback | Plethobasus cicatricosus.
Winged mapleleaf | Quadrula fragosa.
Fish Species
Shortnose sturgeon | Acipenser brevirostrum.
Blue shiner | Cyprinella caerulea.
Cherokee darter | Etheostoma scotti.
Etowah darter | Etheostoma etowahae.
Amber darter | Percina antesella.
Goldline darter | Percina aurolineata.
Conasauga logperch | Percina jenkinsi.
Snail darter | Percina tanasi.

Proposed activities are for the recovery and enhancement of survival of the species in the wild.

Permit Application Number: TE15027A

Applicant: Stantec Consulting Services, Inc., Columbus, OH.

The applicant requests a permit renewal, with amendments, to take (capture and release) Indiana bats and gray bats within the States of Alabama, Arkansas, Florida, Georgia, Illinois, Indiana, Iowa, Kentucky, Maryland, Michigan, Mississippi, Missouri, New Jersey, New York, North Carolina, Pennsylvania, Ohio, Oklahoma, Tennessee, Vermont, Virginia, West Virginia, and Wisconsin. Proposed activities are for the recovery and enhancement of survival of the species in the wild.

Permit Application Number: TE94321A

Applicant: Brian J. O'Neill, Deerfield, IL.

The applicant requests a permit renewal, with amendments, to take (capture and release) the following listed fish and mussel species throughout their range, within the States of Kentucky, Illinois, Indiana, Iowa, Michigan, Minnesota, Missouri, Ohio, Pennsylvania, Tennessee, West Virginia, and Wisconsin:

Fish Species
Palezone shiner | Notropis albizonatus
Blackside dace | Phoxinus cumberlandensis
Relict darter | Etheostoma chienense
Tuxedo darter | Etheostoma lemniscatun.
Cumberland darter | Etheostoma susanae.
Scioto madtom | Noturus trautmani.
Pallid sturgeon | Scaphirhynchus albus.
Mussel Species
Cumberland elktoe | Alasmidonta atropupurea.
Fanshell | Cyprogenia stegaria.
Dromedary pearlymussel | Dromus dromas.
Cumberland combshell | Epioblasma brevidens.
Oyster mussel | Epioblasma capsaeformis.
Tan riffleshell | Epioblasma florentina walkeri.
Purple cat's paw | Epioblasma obliquata obliquata.
White cat's paw | Epioblasma obliquata perobliqua.
Northern riffleshell | Epioblasma torulosa rangiana.
Tubercled blossom | Epioblasma torulosa torulosa.
Cracking pearlymussel | Hemistena lata.
Pink mucket pearlymussel | Lampsilis abrupta.
Higgins' eye pearlymussel | Lampsilis higginsii.
Scaleshell | Leptodea leptodon.
Ring pink | Obovaria retusa.
Littlewing pearlymussel | Pegias fabula.
White wartyback | Plethobasus cicatricosus.
Orangefoot pimpleback | Plethobasus cooperianus.
Clubshell | Pleurobema clava.
Rough pigtoe | Pleurobema plenum.
Fat pocketbook | Potamilus capax.
Winged mapleleaf | Quadrula fragosa.
Cumberland bean | Villosa trabalis.
Sheepnose | Plethobasus cyphyus.
Snuffbox | Epioblasma triquetra.
Spectaclecase | Cumberlandia monodonta.
Rabbitsfoot | Quadrula cylindrica cylindrica.
Rayed bean | Villosa fabalis.

Proposed activities are for the recovery and enhancement of survival of the species in the wild.

Permit Application Number: TE120259

Applicant: Missouri Department of Conservation, Chillicothe, Missouri.

The applicant requests a permit amendment to take (capture and release, temporarily hold for propagation) pallid sturgeon in the Missouri River, including its tributaries, the Upper Mississippi River and Grand River within the State of Missouri, and the Kansas River within the State of Kansas. Activities will be conducted in conjunction with long-term population assessment and recovery work. Proposed activities are for the recovery and enhancement of survival of the species in the wild.

Permit Application Number: TE89557A

Applicant: URS Corporation, Cleveland, OH.

The applicant requests a permit amendment to take (capture and release) the following endangered mussel species within the States of Alabama, Arkansas, Georgia, Florida, Illinois, Indiana, Iowa, Kentucky, Michigan, Minnesota, Mississippi, Missouri, Ohio, Oklahoma, Tennessee, and Wisconsin:

Clubshell | Pleurobema clava
Sheepnose | Plethobasus cyphyus
Spectaclecase | Cumberlandia monodonta
Fanshell | Cyprogenia stegaria
Snuffbox | Epioblasma triquetra
Higgins' eye pearlymussel | Lampsilis higginsii
Fat pocketbook | Potamilus capax
Pink mucket pearlymussel | Lampsilis abrupta
Rabbitsfoot | Quadrula cylindrica cylindrica
Northern riffleshell | Epioblasma torulosa rangiana
Purple cat's paw | Epioblasma obliquata obliquata
White cat's paw | Epioblasma obliquata perobliqua
Orangefoot pimpleback | Plethobasus cooperianus
Speckled pocketbook | Lampsilis streckeri
Scaleshell | Leptodea leptodon
Neosho mucket | Lampsilis rafinesqueana
Oval pigtoe | Pleurobema pyriforme
Fat three-ridge | Amblema neislerii
Gulf moccasinshell | Medionidus penicillatus
Rayed bean | Villosa fabalis

Proposed activities are for the recovery and enhancement of survival of the species in the wild.

Permit Application Number: TE43605A

Applicant: Daniel R. Cox, Streator, IL.

The applicant requests a permit renewal, with amendments, to take (capture and release) Indiana bats and northern long-eared bats (Myotis septentrionalis) within the States of Arkansas, Illinois, Indiana, Iowa, Kentucky, Maryland, Massachusetts, Michigan, Missouri, New Jersey, New York, North Carolina, Ohio, Pennsylvania, Tennessee, Vermont, Virginia, West Virginia, and Wisconsin. Proposed activities are for the recovery and enhancement of survival of the species in the wild.

Permit Application Number: TE06845A

Applicant: Bernardin, Lochmueller, and Associates, Inc., Evansville, IN.

The applicant requests a permit renewal, with amendment, to take (capture and release) Indiana bats and gray bats within the States of Georgia, Illinois, Indiana, Kentucky, and Ohio. Proposed activities are for the recovery and enhancement of survival of the species in the wild.

Permit Application Number: TE10891A

Applicant: Illinois State Museum Research and Collection Center, Dr. Everett Cashatt, P.I., Springfield, IL.

The applicant requests a permit renewal, with amendments, to take Hine's emerald dragonfly (Somatochlora hineana) within the States of Alabama, Arkansas, Connecticut, Delaware, District of Columbia, Georgia, Illinois, Indiana, Iowa, Kentucky, Maine, Maryland, Massachusetts, Michigan, Minnesota, Missouri, New Hampshire, New Jersey, New York, North Carolina, Ohio, Oklahoma, Pennsylvania, Rhode Island, South Carolina, Tennessee, Vermont, Virginia, West Virginia, and Wisconsin. Proposed activities are for the recovery and enhancement of survival of the species in the wild.

Permit Application Number: TE38856A

Applicant: Skelly & Loy, Inc., Harrisburg, PA.

The applicant requests a permit renewal, with amendments, to take (capture and release) the Indiana bat, gray bat, and Virginia big-eared bat (Corynorhinus townsendii virginianus), throughout the range of the species within the States of Arkansas, Connecticut, Georgia, Illinois, Indiana, Iowa, Kansas, Kentucky, Maryland, Michigan, Mississippi, Missouri, New Jersey, New York, North Carolina, Ohio, Oklahoma, Pennsylvania, Tennessee, Vermont, Virginia, and West Virginia. Proposed activities are for the recovery and enhancement of survival of the species in the wild.

Permit Application Number: TE62311A

Applicant: Mary B. Gilmore, Cincinnati, OH.

The applicant requests a permit to take (capture and release) Indiana bats throughout the range of the species within the States of Alabama, Arkansas, Connecticut, Florida, Georgia, Illinois, Indiana, Iowa, Kentucky, Maryland, Michigan, Mississippi, Missouri, New Jersey, New York, North Carolina, Ohio, Oklahoma, Pennsylvania, Tennessee, Vermont, Virginia, and West Virginia. Proposed activities are for the recovery and enhancement of survival of the species in the wild.

Permit Application Number: TE27915B

Applicant: Wildlife Specialists, LLC., Wellsboro, PA.

The applicant requests a permit to take (capture and release) Indiana bats within the States of Alabama, Arkansas, Georgia, Illinois, Indiana, Iowa, Kansas, Kentucky, Maine, Maryland, Massachusetts, Michigan, Mississippi, Missouri, New Hampshire, New York, North Carolina, Ohio, Pennsylvania, Rhode Island, South Carolina, Tennessee, Vermont, Virginia, and West Virginia. Proposed activities are for the recovery and enhancement of survival of the species in the wild.

Permit Application Number: TE71737A

Applicant: Roger A. Klocek, Oak Brook, IL.

The applicant requests a permit renewal, with amendments, to take (capture and release) Higgins' eye pearlymussel, spectaclecase, sheepnose, and snuffbox mussels within the States of Illinois and Iowa. Proposed activities are for the recovery of the species and enhancement of survival of the species in the wild.

Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Dated: March 3, 2014.
Lynn M. Lewis,
Acting Assistant Regional Director, Ecological Services, Midwest Region.

[FR Doc. 2014-06003 Filed 3-18-14; 8:45 a.m.]

BILLING CODE 4310-55-P